DEPARTMENT OF JUSTICE

Antitrust Division

Notice Pursuant to the National Cooperative Research and Production Act of 1993—New Productivity Initiative, Inc.

Notice is hereby given that, on October 4, 2001, pursuant to Section 6(a) of the National Cooperative Research and Production Act of 1993, 15 U.S.C. 4301 et seq. (“the Act”), New Productivity Initiative, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Platform Computing, Inc., Markham, Ontario, CANADA; and Hewlett-Packard, Palo Alto, CA. The nature and objectives of the venture are (a) to promote the development and adoption of open, accessible specifications and standards relating to Distributed Resource Management (DRM) tools (“Specifications”); (b) to promote such specifications and solutions worldwide to ensure the ability for application developers to create soft- and hard-real-time applications for such technologies; to provide for testing and conformity assessment of implementations in order to ensure compliance with Specifications; (c) to create and own distinctive trademarks; (d) to operate a branding program based upon distinctive trademarks to create high customer awareness of, demand for, and confidence in products designed in compliance with Specifications; and (e) to undertake such other activities as may from time to time be appropriate to further the purposes and achieve the goals set forth above.

Constance K. Robinson,
Director of Operations, Antitrust Division.

[FR Doc. 01-30161 Filed 12-4-01; 8:45 am]

BILLING CODE 4410-11-M